DEPARTMENT OF ENERGY

Federal Energy Regulatory Commission

Combined Notice of Filings

Take notice that the Commission has received the following Natural Gas Pipeline Rate and Refund Report filings:

Docket Numbers: RP19-1090-004.

Applicants: BBT AlaTenn, LLC.

Description: Compliance filing BBT AlaTenn NAESB Compliance Filing to be effective 6/1/2020.

Filed Date: 6/1/20.

Accession Number: 20200601-5121.

Comments Due: 5 p.m. ET 6/15/20.

Docket Numbers: RP19-1091-006.

Applicants: BBT Midla, LLC.

Description: Compliance filing BBT Midla NAESB Compliance Filing to be effective 6/1/2020.

Filed Date: 6/1/20.

Accession Number: 20200601-5122.

Comments Due: 5 p.m. ET 6/15/20.

Docket Numbers: RP19-1092-003.

Applicants: Destin Pipeline Company, L.L.C.

Description: Compliance filing Destin Pipeline Company NAESB Compliance Filing to be effective 6/1/2020.

Filed Date: 6/1/20.

Accession Number: 20200601-5119.

Comments Due: 5 p.m. ET 6/15/20.

Docket Numbers: RP19-1093-003.

Applicants: High Point Gas Transmission, LLC.

Description: Compliance filing High Point Gas Transmission NAESB Compliance Filing to be effective 6/1/2020.

Filed Date: 6/1/20.

Accession Number: 20200601-5120.

Comments Due: 5 p.m. ET 6/15/20.

Docket Numbers: RP19-1094-003.

Applicants: BBT Trans-Union Interstate Pipeline, L.P.

Description: Compliance filing BBT Trans Union NAESB Compliance Filing to be effective 6/1/2020.

Filed Date: 6/1/20.

Accession Number: 20200601-5123.

Comments Due: 5 p.m. ET 6/15/20.

Docket Numbers: RP20-926-000.

Applicants: Equitrans, L.P.

Description: § 4(d) Rate Filing: Negotiated Rate Capacity Release Agreements—6/1/2020 to be effective 6/1/2020.

Filed Date: 6/1/20.

Accession Number: 20200601-5065.

Comments Due: 5 p.m. ET 6/15/20.

Docket Numbers: RP20-927-000.

Applicants: Equitrans, L.P.

Description: § 4(d) Rate Filing: Negotiated Rate Agreement—Hill Top to be effective 6/1/2020.

Filed Date: 6/1/20.

Accession Number: 20200601-5080.

Comments Due: 5 p.m. ET 6/15/20.

Docket Numbers: RP20-928-000.

Applicants: Enable Gas Transmission, LLC.

Description: § 4(d) Rate Filing: Negotiated Rate Filing—June 1 2020 Weyerhaeuser 1007729 to be effective 6/1/2020.

Filed Date: 6/1/20.

Accession Number: 20200601-5096.

Comments Due: 5 p.m. ET 6/15/20.

Docket Numbers: RP20-929-000.

Applicants: Transcontinental Gas Pipe Line Company, LLC.

Description: § 4(d) Rate Filing: Negotiated Rates—Cherokee AGL—Replacement Shippers—Jun 2020 to be effective 6/1/2020.

Filed Date: 6/1/20.

Accession Number: 20200601-5099.

Comments Due: 5 p.m. ET 6/15/20.

Docket Numbers: RP20-930-000.

Applicants: Cheniere Corpus Christi Pipeline, LP.

Description: § 4(d) Rate Filing: TRA—June 2020—RP20-627 to be effective 7/1/2020.

Filed Date: 6/1/20.

Accession Number: 20200601-5115.

Comments Due: 5 p.m. ET 6/15/20.

Docket Numbers: RP20-931-000.

Applicants: Gulf South Pipeline Company, LLC.

Description: § 4(d) Rate Filing: Cap Rel Neg Rate Agmt (Constellation 52812 to Exelon 52853) to be effective 6/1/2020.

Filed Date: 6/1/20.

Accession Number: 20200601-5145.

Comments Due: 5 p.m. ET 6/15/20.

Docket Numbers: RP20-932-000.

Applicants: Gulf South Pipeline Company, LLC.

Description: § 4(d) Rate Filing: Cap Rel Neg Rate Agmt (Southern 49811 to Texla 52856) to be effective 6/2/2020.

Filed Date: 6/1/20.

Accession Number: 20200601-5146.

Comments Due: 5 p.m. ET 6/15/20.

Docket Numbers: RP20-933-000.

Applicants: Empire Pipeline, Inc.

Description: § 4(d) Rate Filing: Empire North Jackson CS Early In-Service to be effective 7/1/2020.

Filed Date: 6/1/20.

Accession Number: 20200601-5153.

Comments Due: 5 p.m. ET 6/15/20.

Docket Numbers: RP20-934-000.

Applicants: Northern Border Pipeline Company.

Description: § 4(d) Rate Filing: Negotiated Rate Filing—ONEOK to be effective 6/1/2020.

Filed Date: 6/1/20.

Accession Number: 20200601-5154.

Comments Due: 5 p.m. ET 6/15/20.

Docket Numbers: RP20-935-000.

Applicants: Questar Southern Trails Pipeline Company.

Description: Annual Fuel Gas Reimbursement Report of Questar Southern Trails Pipeline Company under RP20-935.

Filed Date: 6/1/20.

Accession Number: 20200601-5156.

Comments Due: 5 p.m. ET 6/15/20.

Docket Numbers: RP20-936-000.

Applicants: Enable Gas Transmission, LLC.

Description: Tariff Cancellation: Filing to Remove Rate Schedules RSS and SBS to be effective 7/1/2020.

Filed Date: 6/1/20.

Accession Number: 20200601-5170.

Comments Due: 5 p.m. ET 6/15/20.

Docket Numbers: RP20-937-000.

Applicants: Stagecoach Pipeline & Storage Company LLC.

Description: § 4(d) Rate Filing: Stagecoach Pipeline & Storage Company LLC—Filing of Tariff Changes to be effective 7/2/2020.

Filed Date: 6/1/20.

Accession Number: 20200601-5175.

Comments Due: 5 p.m. ET 6/15/20.

Docket Numbers: RP20-938-000.

Applicants: High Point Gas Transmission, LLC.

Description: Annual Unaccounted for Gas Retention Filing of High Point Gas Transmission, LLC under RP20-938.

Filed Date: 6/1/20.

Accession Number: 20200601-5351.

Comments Due: 5 p.m. ET 6/15/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2020.
Nathaniel J. Davis, Sr.,
Deputy Secretary.

[FR Doc. 2020-12326 Filed 6-5-20; 8:45 am]

BILLING CODE 6717-01-P